DEPARTMENT OF COMMERCE

National Oceanic and Atmospheric Administration

Evaluation of State Coastal Management Programs and National Estuarine Research Reserves

AGENCY: National Oceanic and Atmospheric Administration (NOAA), Office of Ocean and Coastal Resource Management, National Ocean Service, Commerce.

ACTION: Notice of Intent To Evaluate and Notice of Availability of Final Findings.

SUMMARY: The NOAA Office of Ocean and Coastal Resource Management (OCRM) announces its intent to evaluate the performance of the Guana Tolomato Matanzas (Florida) National Estuarine Research Reserve, the San Francisco Bay (California) National Estuarine Research Reserve, the Jacques Cousteau (New Jersey) National Estuarine Research Reserve, the Maryland Coastal Management Program, and the Florida Coastal Management Program.

The Coastal Zone Management Program evaluations will be conducted pursuant to section 312 of the Coastal Zone Management Act of 1972, as amended (CZMA) and regulations at 15 CFR part 923, Subpart L. The National Estuarine Research Reserve evaluations will be conducted pursuant to sections 312 and 315 of the CZMA and regulations at 15 CFR Part 921, Subpart E and Part 923, Subpart L. The CZMA requires continuing review of the performance of states with respect to coastal program implementation. Evaluation of Coastal Management Programs and National Estuarine Research Reserves requires findings concerning the extent to which a state has met the national objectives, adhered to its Coastal Management Program document or Reserve final management plan approved by the Secretary of Commerce, and adhered to the terms of financial assistance awards funded under the CZMA.

Each evaluation will include a site visit, consideration of public comments, and consultations with interested Federal, state, and local agencies and members of the public. A public meeting will be held as part of each site visit. Notice is hereby given of the dates of the site visits for the listed evaluations, and the dates, local times, and locations of the public meetings during the site visits.

Dates and Times: The Guana Tolomato Matanzas (Florida) National Estuarine Research Reserve evaluation site visit will be held July 17-19, 2007. One public meeting will be held during the week. The public meeting will be held on Wednesday, July 18, 2007, at 6 p.m. at the Guana Tolomato Matanzas National Estuarine Research Reserve Environmental Education Center, 505 Guana River Road, Ponte Vedra Beach, Florida.

The San Francisco Bay (California) National Estuarine Research Reserve evaluation site visit will be held August 27-30, 2007. One public meeting will be held during the week. The public meeting will be held on Tuesday, August 28, 2007, at 7 p.m. at the Farallon Room, Aquarium of the Bay, Pier 39, The Embarcadero at Beach Street, San Francisco, California.

The Jacques Cousteau (New Jersey) National Estuarine Research Reserve evaluation site visit will be held September 11-13, 2007. One public meeting will be held during the week. The public meeting will be held on Wednesday, September 12, 2007, at 7 p.m. at the Jacques Cousteau National Estuarine Research Reserve Coastal Education Center, 130 Great Bay Boulevard, Tuckerton, New Jersey.

The Maryland Coastal Management Program evaluation site visit will be held September 10-14, 2007. One public meeting will be held during the week. The public meeting will be held on Monday, September 10, 2007, at 6:30 p.m. at the Maryland Department of Natural Resources, Tawes State Office Building, C-1 Conference Room, 580 Taylor Avenue, Annapolis Maryland.

The Florida Coastal Management Program evaluation site visit will be held September 17-21, 2007. One public meeting will be held during the week. The public meeting will be held on Tuesday, September 18, 2007, at 6:30 p.m. at the Florida Department of Environmental Protection, Marjorie Stoneman Douglas Building, Conference Room A, 3900 Commonwealth Boulevard, Tallahassee, Florida.

ADDRESSES: Copies of states' most recent performance reports, as well as OCRM's evaluation notification and supplemental information request letters to the states, are available upon request from OCRM. Written comments from interested parties regarding these Programs are encouraged and will be accepted until 15 days after the public meeting held for a Program. Please direct written comments to Ralph Cantral, Chief, National Policy and Evaluation Division, Office of Ocean and Coastal Resource Management, NOS/NOAA, 1305 East-West Highway, 10th Floor, N/ORM7, Silver Spring, Maryland 20910. When the evaluation is completed, OCRM will place a notice in the Federal Register announcing the availability of the Final Evaluation Findings.

SUPPLEMENTARY INFORMATION: Notice is hereby given of the availability of the final evaluation findings for the Virginia, Georgia, Connecticut, Oregon, Texas, and New Hampshire coastal management programs. Section 312 of the Coastal Zone Management Act of 1972 (CZMA), as amended, requires a continuing review of the performance of coastal states with respect to approval of CMPs. The states of Virginia, Georgia, Connecticut, Oregon, Texas, and New Hampshire were found to be implementing and enforcing their federally approved coastal management programs, addressing the national coastal management objectives identified in CZMA Section 303(2)(A)-(K), and adhering to the programmatic terms of their financial assistance awards.

Copies of these final evaluation findings may be obtained upon written request from: Ralph Cantral, Chief, National Policy and Evaluation Division, Office of Ocean and Coastal Resource Management, NOS/NOAA, 1305 East-West Highway, 10th Floor, N/ORM7, Silver Spring, Maryland 20910, or Ralph.Cantral@noaa.gov.

FOR FURTHER INFORMATION CONTACT: Ralph Cantral, Chief, National Policy and Evaluation Division, Office of Ocean and Coastal Resource Management, NOS/NOAA, 1305 East-West Highway, 10th Floor, N/ORM7, Silver Spring, Maryland 20910, (301) 563-7118.

(Federal Domestic Assistance Catalog 11.419 Coastal Zone Management Program Administration)

Dated: May 24, 2007.
David M. Kennedy,
Director, Office of Ocean and Coastal Resource Management, National Ocean Service, National Oceanic and Atmospheric Administration.

[FR Doc. E7-10486 Filed 5-30-07; 8:45 am]

BILLING CODE 3510-08-P